DEPARTMENT OF COMMERCE

National Oceanic and Atmospheric Administration

[Docket Nos.: NOAA-NOS-2025-0702; NOAA-NOS-2025-1330]

RIN 0648-XA003

Deep Seabed Mining: Notice of Receipt of Applications for Deep Seabed Mining Exploration Licenses and Announcement of Public Comment Period and Virtual Public Hearings

AGENCY: Office for Coastal Management, National Ocean Service, National Oceanic Atmospheric Administration (NOAA), Department of Commerce.

ACTION: Notice of receipt of applications for deep seabed mining exploration licenses; request for comments; notice of virtual public hearing.

SUMMARY: Pursuant to the Deep Seabed Hard Mineral Resources Act (DSHMRA or the Act), notice is hereby given that NOAA received, on July 27, 2025, an amended application from The Metals Company USA, LLC (TMC USA) for a license to conduct seabed mining exploration activities within the seabed area beyond national jurisdiction generally known as the Clarion-Clipperton Zone (TMC USA Application A). NOAA received a second amended application from TMC USA on July 28, 2025 (TMC USA Application B). NOAA has determined that these applications are fully compliant with the applicable information requirements of DSHMRA and the Act's implementing regulations. Subject to applicable public disclosure limitations, interested persons are afforded the opportunity to examine the materials relevant to these applications and may submit written comments to NOAA electronically via the instructions below. These applications are electronically available at the locations listed below under ADDRESSES. Please note that the statements made in the TMC USA applications do not necessarily reflect the views of NOAA or the views of the U.S. Government. As part of the application review process, NOAA will also hold two virtual public hearings to receive oral public comments on these applications.

DATES: Comments on the applications must be received by February 23, 2026. The virtual public hearings are scheduled for January 27, 2026, and January 28, 2026, from 3 p.m. to 7 p.m. Eastern Time each day. Instructions for attending the virtual public hearings are provided below.

ADDRESSES: The TMC USA Application A is electronically available at https://www.regulations.gov/docket/NOAA-NOS-2025-0702; The TMC USA Application B is electronically available at https://www.regulations.gov/docket/NOAA-NOS-2025-1330.

You may send comments, identified by docket number, by either of the following means:

Written Comments

Comments must be submitted by the date and electronic method described below to ensure that the comments are received, documented, and considered by NOAA. Comments sent by any other method, to any other address or individual, or received after the end of the comment period, may not be considered. Comments that are not related to the applications or that contain profanity, vulgarity, threats, or other inappropriate language will not be considered. To ensure full consideration by NOAA, comments must be submitted in English. Comments that are not submitted in English may not be posted to the public dockets on regulations.gov, or considered by NOAA. All relevant comments received are a part of the public record and will generally be posted for public viewing on www.regulations.gov without change. All personal identifying information (e.g., name, address) submitted voluntarily by the sender will be publicly accessible. Do not submit confidential business information or otherwise sensitive or protected information. NOAA will accept anonymous comments (enter “N/A” in the required fields if you wish to remain anonymous).

• For TMC USA Application A, submit all public written comments via the Federal regulations.gov e-Portal at https://www.regulations.gov/docket/NOAA-NOS-2025-0702 or go to www.regulations.gov and enter “NOAA-NOS-2025-0702” in the search bar.

• For TMC USA Application B, submit all public written comments via the Federal regulations.gov e-Portal at https://www.regulations.gov/docket/NOAA-NOS-2025-1330 or go to www.regulations.gov and enter “NOAA-NOS-2025-1330” in the search bar.

For each docket, locate the document you wish to comment on from the resulting list and click on the “Submit a comment” icon on the right of that line. Please note that comments will only be considered for the docket to which they are submitted. If your comment is in response to both TMC USA Application A and TMC USA Application B, you must submit two comments, one to each docket.

Oral Comments

You may submit oral comments for either or both applications (TMC USA Application A and/or TMC USA Application B) at either virtual public hearing. At the virtual public hearings, you will be asked to specify whether your comment is in reference to TMC USA Application A, TMC USA Application B, or both.

NOAA will conduct the virtual public hearings via Adobe Connect. Each person who wants to attend either virtual public hearing must electronically register by January 21, 2026, 5 p.m. Eastern Time. Attendance at each virtual public hearing will be limited to 1,000 individuals for each of the two dates; therefore, NOAA requests that individuals register and attend only one hearing, on either January 27 or January 28, 2026. To register for either hearing, use the following link: https://noaabroadcast.adobeconnect.com/evxcqr87egzq/event/event_info.html. Any person who registers and wants to speak at a virtual public hearing should indicate that they want to speak during registration. Each registered participant will receive an Adobe Connect link for the virtual public hearing.

Once the virtual public hearing starts, NOAA will describe the virtual public hearing logistics. NOAA will then start the public comment part of the virtual public hearing and will call on speakers on a first come/first served basis through the raised hand function of Adobe Connect. NOAA will then unmute the person speaking. Each speaker will have three minutes to speak on either or both applications (TMC USA Application A and/or TMC USA Application B). If a speaker does not respond when they are called on, NOAA will move to the next speaker. At the three-minute mark for each speaker, NOAA will mute that speaker. Speakers cannot allot their time to another speaker. Once all speakers have spoken, or at the scheduled end of the virtual public hearing, whichever is earlier, NOAA will end the virtual public hearing. NOAA retains discretion to extend the virtual public hearing if appropriate and feasible. NOAA will record each hearing and will include transcripts of the hearings on the public dockets for each of the TMC USA Applications on the regulations.gov website at https://www.regulations.gov/docket/NOAA-NOS-2025-0702 for TMC USA Application A and at https://www.regulations.gov/docket/NOAA-NOS-2025-1330 for TMC USA Application B. The names provided by each speaker will also be published as part of the transcripts.

The virtual public hearings do not replace the process for submission of written comments. NOAA will not respond during the hearings to oral comments or questions. To ensure full consideration by NOAA, oral comments must be in English. Comments that are not in English may not be transcribed or considered by NOAA.

FOR FURTHER INFORMATION CONTACT: Kerry Kehoe, (240) 560-8518, kerry.kehoe@noaa.gov.

Authority: 30 U.S.C. 1426(a)(1).

Neil A. Jacobs,
Under Secretary of Commerce for Oceans and Atmosphere and NOAA Administrator National Oceanic and Atmospheric Administration.

[FR Doc. 2025-23795 Filed 12-19-25; 4:15 pm]

BILLING CODE 3510-22-P